DEPARTMENT OF HEALTH AND HUMAN SERVICES

Food and Drug Administration

21 CFR Part 74

[Docket No. 1987C-0023]

Listing of Color Additives Subject to Certification; D&C Black No. 2; Correction

AGENCY: Food and Drug Administration, HHS.

ACTION: Final rule; correction.

SUMMARY: The Food and Drug Administration (FDA) is correcting a final rule that appeared in the Federal Register of July 28, 2004 (69 FR 44927). The final rule amended the color additive regulations to provide for the safe use of D&C Black No. 2 (a high-purity furnace black, subject to FDA batch certification) as a color additive in the following cosmetics: Eyeliner, brush-on-brow, eye shadow, mascara, lipstick, blushers and rouge, makeup and foundation, and nail enamel. The action was in response to a petition filed by the Cosmetic, Toiletry, and Fragrance Association. The final rule published with inadvertent errors. This document corrects those errors.

DATES: See the first correction under SUPPLEMENTARY INFORMATION.

FOR FURTHER INFORMATION CONTACT: Celeste Johnston, Center for Food Safety and Applied Nutrition (HFS-265), Food and Drug Administration, 5100 Paint Branch Pkwy., College Park, MD 20740, 202-418-3423.

SUPPLEMENTARY INFORMATION: In the FR Doc. 04-17153, appearing on page 44927, in the Federal Register of July 28, 2004, the following corrections are made:

1. On page 44927, in the third column, the section entitled “DATES,” is corrected to read:

DATES: This rule is effective August 30, 2004. Submit objections and requests for a hearing by August 27, 2004. See section IX of this document for information on the filing of objections.

2. On page 44929, in the third column, under the section “Objections,” the heading and paragraph are corrected to read:

IX. Objections

This rule is effective as shown in the “DATES” section of this document; except as to any provisions that may be stayed by the filing of proper objections. Any person who will be adversely affected by this regulation may at any time file with the Division of Dockets Management (see ADDRESSES) written or electronic objections. Each objection shall be separately numbered, and each numbered objection shall specify with particularity the provisions of the regulation to which objection is made and the grounds for the objection. Each numbered objection on which a hearing is requested shall specifically so state. Failure to request a hearing for any particular objection shall constitute a waiver of the right to a hearing on that objection. Each numbered objection for which a hearing is requested shall include a detailed description and analysis of the specific factual information intended to be presented in support of the objection in the event that a hearing is held. Failure to include such a description and analysis for any particular objection shall constitute a waiver of the right to a hearing on the objection. Three copies of all documents are to be submitted and are to be identified with the docket number found in brackets in the heading of this document. Any objections received in response to the regulation may be seen in the Division of Dockets Management between 9 a.m. and 4 p.m., Monday through Friday. FDA will publish notice of the objections that the agency has received or lack thereof in the Federal Register.

Dated: August 18, 2004.
Jeffrey Shuren,
Assistant Commissioner for Policy.

[FR Doc. 04-19398 Filed 8-24-04; 8:45 am]

BILLING CODE 4160-01-S